OFFICE OF SCIENCE AND TECHNOLOGY POLICY

National Nanotechnology Coordination Office

Nanoscale Science, Engineering, and Technology Subcommittee; Committee on Technology, National Science and Technology Council; Meeting

ACTION: Notice of public meeting.

SUMMARY: The National Nanotechnology Coordination Office (NNCO), on behalf of the Nanoscale Science, Engineering, and Technology (NSET) Subcommittee of the Committee on Technology, National Science and Technology Council (NSTC), will hold a technical interchange meeting entitled “Realizing the Promise of Carbon Nanotubes—Challenges, Opportunities and the Pathway to Commercialization” on September 15, 2014. The meeting will be sponsored by the National Nanotechnology Initiative (NNI) and co-sponsored by the National Aeronautics and Space Administration (NASA). The objectives of this meeting are to identify, discuss, and report the technical barriers preventing the production of carbon nanotube-based materials with electrical and mechanical properties approaching theoretical values, and to explore ways to overcome these barriers. Obstacles preventing the full exploitation of the multifunctional nature of carbon nanotube materials will also be discussed. This one-day meeting will assemble some of the Nation's leading experts in carbon nanotube research and development, as well as executives and experts from the Federal government, academia, and private sector.

DATES: The technical interchange meeting will be held Monday, September 15, 2014 from 8:00 a.m. until 5:15 p.m.

ADDRESSES: The technical interchange meeting will be held at the National Aeronautics and Space Administration (NASA) Headquarters, 300 E Street Southwest, Washington, DC 20546.

FOR FURTHER INFORMATION, CONTACT: Dr. Tarek Fadel, 703-292-7926, tfadel@nnco.nano.gov, NNCO. Additional information is posted at: http://nano.gov/2014CNTTechInterchange.

Registration: Registration opens on September 8, 2014. Due to space limitations, pre-registration for the technical interchange meeting is required. Written notices of participation by email should be sent to dpetreski@nnco.nano.gov or mailed to Diana Petreski, 4201 Wilson Blvd., Stafford II, Suite 405, Arlington, VA 22230. Please provide your full name, title, affiliation and email or mailing address when registering. Registration is on a first-come, first-served basis until capacity is reached. Written or electronic comments should be submitted by email to dpetreski@nnco.nano.gov until close of business September 10, 2014.

Meeting Accommodations: Individuals requiring special accommodation to access this meeting should contact Diana Petreski at 703-292-7922 at least five business days prior to the meeting so that appropriate arrangements can be made.

Ted Wackler,
Deputy Chief of Staff and Assistant Director.

[FR Doc. 2014-21201 Filed 9-5-14; 8:45 am]

BILLING CODE P